DEPARTMENT OF HEALTH AND HUMAN SERVICES

Food and Drug Administration

[Docket No. FDA-2010-N-0381]

Generic Drug User Fee; Public Meeting; Correction

AGENCY: Food and Drug Administration, HHS.

ACTION: Notice; correction.

SUMMARY: The Food and Drug Administration (FDA) is correcting a notice that appeared in the Federal Register of Thursday, December 8, 2011 (76 FR 76738). The document announced a public meeting entitled “Generic Drug User Fee.” The document published with an inadvertent error in the Dates section. This document corrects that error.

FOR FURTHER INFORMATION CONTACT: Joyce Strong, Office of Policy, Food and Drug Administration, 10903 New Hampshire Ave., Bldg. 32, Rm. 3208, Silver Spring, MD 20993-0002, (301) 796-9148.

SUPPLEMENTARY INFORMATION: In FR Doc. 2011-31630, appearing on page 76738 in the Federal Register of Thursday, December 8, 2011, the following correction is made:

On page 76738, in the third column, under the Dates section, “January 6, 2011” is corrected to read “January 6, 2012”.

Dated: December 15, 2011.
Leslie Kux,
Acting Assistant Commissioner for Policy.

[FR Doc. 2011-32562 Filed 12-20-11; 8:45 am]

BILLING CODE 4160-01-P